DEPARTMENT OF HEALTH AND HUMAN SERVICES

Centers for Disease Control and Prevention

[Program Announcement Number (PA) PAR09-184]

Disease, Disability, and Injury Prevention and Control Special Emphasis Panel (SEP): State Based Occupational Health and Safety Surveillance Grants, Initial Review

Correction: This notice was published in the Federal Register on November 5, 2009, Volume 74, Number 2123, Page 57321. The time and date should read as follows:

Time and Dates

8 a.m.-5 p.m., December 3, 2009 (Closed).

8 a.m.-5 p.m., December 4, 2009 (Closed).

Contact Person for More Information: Mack Stiles, DDS, MPH, PhD, Scientific Review Administrator, Office of Extramural Programs, National Institute for Occupational Safety and Health, CDC, 1600 Clifton Road, NE., Mailstop E-74, Atlanta, Georgia 30333; Telephone (404) 498-2530.

The Director, Management Analysis and Services Office, has been delegated the authority to sign Federal Register notices pertaining to announcements of meetings and other committee management activities, for both CDC and the Agency for Toxic Substances and Disease Registry.

Dated: November 13, 2009.
Elaine L. Baker,
Director, Management Analysis and Services Office, Centers for Disease Control and Prevention.

[FR Doc. E9-27805 Filed 11-18-09; 8:45 am]

BILLING CODE 4163-18-P